DEPARTMENT OF HEALTH AND HUMAN SERVICES

National Preparedness and Response Science Board; Call for Nominees

AGENCY: Office of the Secretary, Department of Health and Human Services.

ACTION: Notice.

SUMMARY: The Office of the Secretary seeks application submissions from qualified individuals for consideration for membership on the National Preparedness and Response Science Board (NPRSB). Terms of eight members expire December 31, 2017; therefore, the Secretary must appoint eight new voting members. Nominees shall represent the following categories: Industry, academia, health care consumer organizations, and organizations representing other appropriate stakeholders. Please visit the NPRSB Web site at https://www.phe.gov/nprsb for all application submission information and instructions. If interested, please submit your application by the deadline of June 7, 2017, at 11:59 p.m.

FOR FURTHER INFORMATION CONTACT: CDR Evelyn Seel, MPH, Designated Federal Official, National Preparedness and Response Science Board, Office of the Assistant Secretary for Preparedness and Response, U.S. Department of Health and Human Services, Thomas P. O'Neill Federal Building, Room Number 22H11, 200 C St. SW., Washington, DC 20024; Office: 202-205-7960, Email address: evelyn.seel@hhs.gov.

SUPPLEMENTARY INFORMATION: Pursuant to section 319M of the Public Health Service (PHS) Act (42 U.S.C. 247d-7f) and section 222 of the PHS Act (42 U.S.C. 217a), the Department of Health and Human Services (HHS) established the NPRSB. The Board shall provide expert advice and guidance to the Secretary on scientific, technical, and other matters of special interest to HHS regarding current and future chemical, biological, nuclear, and radiological agents, whether naturally occurring, accidental, or deliberate. The Board may also provide advice and guidance to the Secretary and/or the Assistant Secretary for Preparedness and Response (ASPR) on other matters related to public health emergency preparedness and response.

Description of Duties: The Board shall advise the Secretary and/or ASPR on current and future trends, challenges, and opportunities presented by advances in biological and life sciences, biotechnology, and genetic engineering with respect to threats posed by naturally occurring infectious diseases and chemical, biological, radiological, and nuclear agents. At the request of the Secretary and/or ASPR, the Board shall review and consider any information and findings received from the working groups established under 42 U.S.C. 247d-7f(b). At the request of the Secretary and/or ASPR, the Board shall provide recommendations and findings for expanded, intensified, and coordinated biodefense research and development activities. The Secretary and/or ASPR may assign additional advisory duties concerning public health emergency preparedness and response at his/her discretion.

Structure: The Board shall consist of 13 voting members, including the chairperson; additionally, there may be non-voting ex officio members. Pursuant to 42 U.S.C. 247d-7f(a), the Secretary shall appoint members and the Chairperson from among the nation's preeminent scientific, public health, and medical experts, as follows: (a) Such federal officials as the Secretary determines are necessary to support the functions of the Board; (b) four individuals from the pharmaceutical, biotechnology, and device industries; (c) four academicians; and, (d) five other members as determined appropriate by the Secretary and/or ASPR, one of whom must be a practicing health care professional, one of whom must be from an organization representing health care consumers, one of whom must have pediatric subject matter expertise, and one of whom shall be a state, tribal, territorial, or local public health official. The Secretary will appoint additional members for category (d), above, from among emergency medical responders and organizations representing other appropriate stakeholders. A member of the Board described in (b), (c), or (d) in the above paragraph shall serve for a term of three years, except that the Secretary may adjust the terms of the initial Board appointees in order to provide for a staggered term of appointment of all members. The Secretary shall appoint members who are not full-time or permanent part-time federal employees as special government employees.

Dated: April 14, 2017.
George W. Korch Jr.,
Acting Assistant Secretary for Preparedness and Response.

[FR Doc. 2017-08005 Filed 4-19-17; 8:45 am]

BILLING CODE P